DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On January 31, 2022, OFAC determined that the property and interests in property subject to U.S. jurisdiction of the following persons are blocked under the relevant sanctions authority listed below.

Individuals

1. OO, Thida (a.k.a. OO, Daw Thida; a.k.a. OO, Thi Da), Burma; DOB 27 Nov 1964; POB Rangoon, Burma; nationality Burma; citizen Burma; Gender Female; Passport DM003921 (Burma) issued 02 Aug 2017 expires 01 Aug 2027; Union Attorney General (individual) [BURMA-EO14014].

Designated pursuant to section 1(a)(iii)(B) of Executive Order 14014 of February 10, 2021, “Blocking Property With Respect To The Situation In Burma” (“E.O. 14014”), 86 FR 9429, for being a foreign person who is or has been a leader or official of the Government of Burma on or after February 2, 2021.

2. OO, Tin (a.k.a. OO, U Tin), No. 22, Thanlwin Street, Pyinyawady Condominium, No. 5 Quarter, Yankin Township, Rangoon, Burma; DOB 24 Nov 1952; nationality Burma; citizen Burma; Gender Male; National ID No. 5KALATANAING127084 (Burma); Chairman of Anti-Corruption Commission (individual) [BURMA-EO14014].

Designated pursuant to section 1(a)(iii)(B) of E.O. 14014 for being a foreign person who is or has been a leader or official of the Government of Burma on or after February 2, 2021.

3. OO, Tun Tun (a.k.a. OO, Htun Htun; a.k.a. OO, U Htun Htun; a.k.a. OO, U Tun Tun), Naypyitaw, Burma; DOB 28 Jul 1956; nationality Burma; citizen Burma; Gender Male; Chief Justice of Union Supreme Court (individual) [BURMA-EO14014].

Designated pursuant to section 1(a)(iii)(B) of E.O. 14014 for being a foreign person who is or has been a leader or official of the Government of Burma on or after February 2, 2021.

4. TAY ZA, Htoo Htet (a.k.a. TAYZA, Htoo Htet), Burma; DOB 24 Jan 1993; alt. DOB 24 Jan 1994; citizen Burma; Gender Male (individual) [BURMA-EO14014] (Linked To: ZA, Tay).

Designated pursuant to section 1(a)(v) of E.O. 14014 for being a spouse or adult child of TAY ZA, a person whose property and interests in property are blocked pursuant to E.O. 14014.

5. TAY ZA, Pye Phyo (a.k.a. TAY ZA, Pyae Phyo; a.k.a. TAYZA, Pye Phyo), Burma; DOB 29 Jan 1987; POB Burma; nationality Burma; Gender Male (individual) [BURMA-EO14014] (Linked To: ZA, Tay).

Designated pursuant to section 1(a)(v) of E.O. 14014 for being a spouse or adult child of TAY ZA, a person whose property and interests in property are blocked pursuant to E.O. 14014.

6. THAUNG, Jonathan Myo Kyaw (a.k.a. TAUNG, Jonathan Kwang; a.k.a. THAUNG, Jonathan Kwang; a.k.a. THAUNG, Jonathan Kyaw; a.k.a. “MYO, Jonathan”), Burma; DOB 29 Dec 1981; nationality Burma; Gender Male (individual) [BURMA-EO14014] (Linked To: MYANMA ECONOMIC HOLDINGS PUBLIC COMPANY LIMITED).

Designated pursuant to section 1(a)(vi) of E.O. 14014 for having materially assisted, sponsored, or provided financial, material, or technological support for, or goods or services to or in support of MYANMA ECONOMIC HOLDINGS PUBLIC COMPANY LIMITED (MEHL), a person whose property and interests in property are blocked pursuant to E.O. 14014.

7. ZA, Tay, Singapore; Burma; DOB 18 Jul 1964; alt. DOB 18 Jul 1967; POB Burma; citizen Burma; Gender Male; Passport 306869 (Burma); National ID No. MYGN 006415 (Burma) (individual) [BURMA-EO14014].

Designated pursuant to section 1(a)(i) of E.O. 14014 for operating in the defense sector of the Burmese economy or any other sector of the Burmese economy as may be determined by the Secretary of the Treasury, in consultation with the Secretary of State.

Entity

1. DIRECTORATE OF PROCUREMENT OF THE COMMANDER-IN-CHIEF OF DEFENSE SERVICES ARMY (a.k.a. DIRECTORATE OF PROCUREMENT, OFFICE OF THE COMMANDER-IN-CHIEF ARMY, THE REPUBLIC OF THE UNION OF MYANMAR; a.k.a. MYANMAR DIRECTORATE OF PROCUREMENT; a.k.a. “DIRECTORATE OF DEFENSE PROCUREMENT”; a.k.a. “DIRECTORATE OF PROCUREMENT”), Nay Pyi Taw City, Burma; Target Type Government Entity [BURMA-EO14014].

Designated pursuant to section 1(a)(i) of E.O. 14014 for operating in the defense sector of the Burmese economy or any other sector of the Burmese economy as may be determined by the Secretary of the Treasury, in consultation with the Secretary of State.

2. KT SERVICES & LOGISTICS KTSL COMPANY LIMITED (a.k.a. KT SERVICES & LOGISTICS CO., LTD; a.k.a. KT SERVICES AND LOGISTICS CO., LTD; a.k.a. KT SERVICES AND LOGISTICS COMPANY LIMITED; a.k.a. KT SERVICES AND LOGISTICS KTSL COMPANY LIMITED), Pyay Road, A4/A5 Kamayut Township, Rangoon 11201, Burma; Registration Country Burma; Organization Established Date 18 Feb 2014; Registration Number 108301848 (Burma) [BURMA-EO14014] (Linked To: MYANMA ECONOMIC HOLDINGS PUBLIC COMPANY LIMITED).

Designated pursuant to section 1(a)(vi) of E.O. 14014 for having materially assisted, sponsored, or provided financial, material, or technological support for, or goods or services to or in support of MEHL, a person whose property and interests in property are blocked pursuant to E.O. 14014.

Authority: E.O. 14014, 86 FR 9429.

Dated: January 31, 2022.
Andrea M. Gacki,
Director, Office of Foreign Assets Control, U.S. Department of the Treasury.

[FR Doc. 2022-02275 Filed 2-2-22; 8:45 am]

BILLING CODE 4810-AL-P